DEPARTMENT OF THE INTERIOR

National Park Service

[NPS-WASO-NRNHL-DTS#-31837; PPWOCRADI0, PCU00RP14.R50000]

National Register of Historic Places; Notification of Pending Nominations and Related Actions

AGENCY: National Park Service, Interior.

ACTION: Notice.

SUMMARY: The National Park Service is soliciting electronic comments on the significance of properties nominated before April 24, 2021, for listing or related actions in the National Register of Historic Places.

DATES: Comments should be submitted electronically by May 19, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before April 24, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Maricopa County

Buckeye Woman's Club, 845 Monroe Ave., Buckeye, SG100006596

ARKANSAS

Lawrence County

Mount Zion Cemetery, West Fulbright Ave., Walnut Ridge, SG100006610

CALIFORNIA

Riverside County

Riviera Gardens, 290 East Simms Rd., 3100, 3125, 3133, and 3165 North Sunnyview Dr., 300 and, 330 East Molino Rd., Palm Springs, SG100006608

CONNECTICUT

Litchfield County

Canaan Pine Grove Association Camp Meeting, Address Restricted, Canaan vicinity, SG100006592

New Haven County

Congregation Mishkan Israel, 785 Ridge Rd., Hamden, SG100006598

IOWA

Johnson County

Iowa City Downtown Historic District, Roughly, South Clinton to South Gilbert Sts., Iowa Ave. to alley south of East College St., Iowa City, SG100006609

KANSAS

Atchison County

A. J. Harwi Hardware Company Building, 832 Commercial Street, Atchison, SG100006615

Howe, Edgar W., House, 20045 266th Rd., Atchison vicinity, SG100006616

Cowley County

Cowley County National Bank Building (Boundary Increase), 820-822 Main St. & 106-108 East 9th Ave., Winfield, BC100006617

MASSACHUSETTS

Berkshire County

East Otis Schoolhouse, 2 Old Blandford Rd., Otis, SG100006595

Essex County

Haskell, Captain Robert, House, 680 Hale St., Beverly, SG100006593

Middlesex County

Jones, Colonel Timothy, House, 231 Concord Rd., Bedford, SG100006594

MISSISSIPPI

De Soto County

Holiday Inn University, 7300 Hacks Cross Rd., Olive Branch, SG100006591

Harrison County

St. Matthew Evangelical Lutheran Church, 1301 31st Ave., Gulfport, SG100006590

MISSOURI

Jackson County

St. John's High School and Seminary, 2015-2131 East 72nd St., Kansas City, SG100006589

NEW JERSEY

Morris County

Cobb-Smith House, 460 South Beverwyck Rd., Parsippany-Troy Hills Township, SG100006613

Somerset County

Mount Zion African Methodist Episcopal (AME) Church, 189 Hollow Rd., Montgomery Township, SG100006611

Lane-Voorhees House, 551 Milltown Rd., Bridgewater Township, SG100006612

PENNSYLVANIA

Philadelphia County

Germantown Jewish Centre, 400 West Ellet St., Philadelphia, SG100006587

U.S. Mint Building at Philadelphia, 1700 Spring Garden St., Philadelphia, SG100006588

WISCONSIN

Portage County

Clark Street-Main Street Historic District, Roughly bounded by Prentice, Clark, Freemont, and Main Sts., Stevens Point, SG100006599

Additional documentation has been received for the following resources:

TENNESSEE

Anderson County

Oak Ridge Historic District (Additional Documentation), (Oak Ridge MPS), Roughly bounded by East Dr., W. Outer Dr., Louisiana and Tennessee Aves., Oak Ridge, AD91001109

Shelby County

Wildwood Farms (Additional Documentation), 2737 S. Germantown Rd., Germantown, AD100001371

One Hundred North Main Building (Additional Documentation), 100 N. Main St. Mall, Memphis, AD15000187

Nomination submitted by Federal Preservation Officer:

The State Historic Preservation Officer reviewed the following nominations and responded to the Federal Preservation Officer within 45 days of receipt of the nomination and supports listing the property in the National Register of Historic Places.

WYOMING

Natrona County

Alcova Redoubt, Address Restricted, Alcova vicinity, SG100006603

Authority: Section 60.13 of 36 CFR part 60.

Dated: April 27, 2021.
Sherry Frear,
Chief, National Register of Historic Places/National Historic Landmarks Program.

[FR Doc. 2021-09324 Filed 5-3-21; 8:45 am]

BILLING CODE 4312-52-P